CONSUMER PRODUCT SAFETY COMMISSION

CPSC Safety Academy

AGENCY: Consumer Product Safety Commission.

ACTION: Notice.

SUMMARY: The Consumer Product Safety Commission (CPSC, Commission, or we) is announcing its intent to hold a 1-day CPSC Safety Academy to discuss current requirements, including testing and certification of children's products, the mandatory toy standard, and compliance issues. The CPSC Safety Academy will be held on September 20, 2012, at the CPSC's headquarters in Bethesda, MD. We invite interested parties to participate in or attend the CPSC Safety Academy.

DATES: The CPSC Safety Academy will be held from 8:00 a.m. to 4:00 p.m. on September 20, 2012. Individuals interested in serving on panels or presenting information at the CPSC Safety Academy should register by September 4, 2012; all other individuals who wish to attend in person should register by September 14, 2012.

ADDRESSES: The CPSC Safety Academy will be held at the CPSC's headquarters, 4330 East West Highway, 4th Floor Hearing Room, Bethesda, MD 20814. Persons interested in serving on a panel, presenting information, or attending the CPSC Safety Academy should register online at: use http://www.cpsc.gov/meetingsignup.html, and click on the link titled, “CPSC Safety Academy.”

FOR FURTHER INFORMATION CONTACT: Dean W. Woodard, Director, Office of Education, Global Outreach, & Small Business Ombudsman, 4330 East West Highway, Bethesda, MD 20814, telephone: 301-504-7651, email: dwoodard@cpsc.gov.

SUPPLEMENTARY INFORMATION: The CPSC Safety Academy intends to bring together CPSC staff and stakeholders, including manufacturers, consumer advocates, academic researchers, and others to disseminate and share information on areas of particular interest to stakeholders, including testing and certification of children's products, as well as navigating compliance issues and the Fast-Track process. These discussions will be held in a panel format, with a brief question and answer session at the end of each panel. Participants may choose from one of three panels in the morning session: “F963 Toy Standards”; “Testing-Mandatory Testing, Component Parts Testing, Certificates of Conformity”; or “Flammable Fabrics, Drawstrings, and Sleepwear.” In the afternoon session, participants may choose from three panels that will be repeated: “Navigating the CPSC Import Process”; “The Nuances of 6b”; or “Fast-Track Process—Compliance.” An official of the General Administration of Quality Supervision, Inspection, and Quarantine (AQSIQ) of the People's Republic of China has also been invited to speak. If the invitation is accepted, the schedule will be adjusted accordingly.

The CPSC Safety Academy will be held from 8:00 a.m. to 4:00 p.m. on September 20, 2012, at the CPSC Headquarters building at 4330 East West Highway, 4th Floor Hearing Room, Bethesda, MD 20814. Light refreshments and a box lunch will be provided at noon during the presentation on “Compliance 101-The Basics.”

If you would like to be a panel member for a specific session of the CPSC Safety Academy, you should register by September 4, 2012. (See the ADDRESSES portion of this document for the Web site link and instructions on where to register.) Panelists are asked to submit a brief (less than 200 word) abstract of your topic, area of expertise, and desired breakout panel. In the event that more panelists request a particular session than time will allow, the CPSC Safety Academy planning committee will select panelists based on considerations such as: the individual's familiarity or expertise with the topic to be discussed; the practical utility of the information to be presented (such as a discussion of a specific topic or research area); the topic's relevance to the identified theme and topic area; and the individual's viewpoint or ability to represent certain interests (e.g., such as large manufacturers, small manufacturers, academic researchers, consumer organization). While every effort will be made to accommodate all persons who wish to be panelists, we expect to limit each panel session to no more than five panelists. Therefore, the final number of panelists may be limited. We recommend that individuals and organizations with common interests consolidate or coordinate their panel requests. To assist in making final panelist selections, the CPSC Safety Academy planning committee may request potential panelists to submit presentations in addition to the initial abstract. We will notify those who are selected as panelists by September 14, 2012.

If you wish to attend and participate in the CPSC Safety Academy, but do not wish specifically to be a panelist, you should also register by September 14, 2012, and identify your affiliation and first and second choices for sessions each day. Every effort will be made to accommodate each person's requested sessions; however, we may need to limit registration to meet capacity limits of our meeting rooms. If you are unable to attend the CPSC Safety Academy, you may view some panels via webcast, but you will not be able to interact with the panels and presenters. Only select panels will be webcast. You do not need to register for the webcast. The panels that are not webcast will be taped and made available for viewing on the CPSC Web site.

Dated: August 8, 2012.
Todd A. Stevenson,
Secretary, Consumer Product Safety Commission.

[FR Doc. 2012-19811 Filed 8-13-12; 8:45 am]

BILLING CODE 6355-01-P